DEPARTMENT OF TRANSPORTATION

Pipeline and Hazardous Materials Safety Administration

[Docket No. PHMSA-2017-0108 (Notice No. 2021-07)]

Hazardous Materials: Notification of Termination of Certain Explosive Classification Approvals Due to Non-Compliance With the UN Model Regulation Test Series 6(d) Requirement

AGENCY: Pipeline and Hazardous Materials Safety Administration (PHMSA), DOT.

ACTION: Notification of termination of explosive approvals.

SUMMARY: PHMSA has terminated the Explosive (EX) classification approvals listed below. PHMSA published a Federal Register Notice on May 4, 2021, notifying the approval holders listed below that PHMSA intended to terminate their approvals for failure to provide proof that the approved explosives successfully completed the UN Test Series 6(d) of Part I of the UN Manual of Tests and Criteria. The notice advised approval holders that they must either show why their approvals should not be terminated or apply for a modification of their approval prior to June 3, 2021.

FOR FURTHER INFORMATION CONTACT: Mrs. Harpreet Singh, Chief, Energetic Materials Branch, Sciences and Engineering Division, 202-366-4535, PHMSA, 1200 New Jersey Avenue SE, Washington, DC 20590-0001.

SUPPLEMENTARY INFORMATION:

I. Introduction

The Pipeline and Hazardous Materials Safety Administration's (PHMSA) Office of Hazardous Materials Safety (OHMS) provides notice of the termination of the approvals listed below. The below-listed approval holders failed to provide evidence that their explosives successfully passed UN Test Series 6(d) of Part I of the UN Manual of Tests and Criteria (UN 6(d) testing) as required by 49 CFR 172.102, Special Provision 347.

Publication in the Federal Register is an authorized method for PHMSA to serve the approval holders in accordance with 49 CFR 105.35(a)(3). The approval holders listed below failed to submit evidence that the UN 6(d) testing had been successfully completed and failed to apply for a modification of their approval. Therefore, PHMSA terminated their approvals, effective June 3, 2021.

II. Background

Final rule HM-215O ¹ amended Special Provision 347 to require successful completion of UN 6(d) testing. This change affected explosives classified as Division 1.4S hazardous materials and impacted UN Numbers UN0349, UN0367, UN0384, and UN0481. This requirement became effective for transportation by aircraft under the International Civil Aviation Organization (ICAO) on January 1, 2019; for transportation by vessel under the International Maritime Organization (IMO) on January 1, 2020; and for domestic highway and rail transportation on May 10, 2021. PHMSA attempted to contact the affected approval holders in October 2020 via a Safety Advisory Notice issued from the PHMSA EX Portal to alert holders of the May 10, 2021, compliance deadline. On May 4, 2021, PHMSA issued a Federal Register Notice ² [Docket No. PHMSA-2017-0108, Notice No. 2021-03] which notified the approval holders of PHMSA's intent to terminate all approvals that failed to provide PHMSA with documentation showing that the UN 6(d) test had been successfully completed by June 3, 2021. As noted above, publication in the Federal Register is an authorized method for PHMSA to serve the approval holders in accordance with 49 CFR 105.35(a)(3). The approval holders listed below failed to submit evidence that the UN 6(d) testing had been successfully completed and failed to apply for a modification of their approval. Therefore, PHMSA terminated their approvals, effective June 3, 2021. As of July 2021, PHMSA had not received any records that the required UN 6(d) testing had been successfully completed for the below-listed EX number(s).

¹ 85 FR 27810 (May 11, 2020).

² 86 FR 23782 (May 4, 2021).

III. Action

PHMSA terminated the below EX classification approvals in accordance with § 107.713(b)(1).

IV. Terminated Approvals

EX approval holders are listed in alphabetical order.

EX No. | UN No. | EX approval holder
EX1999100239 | UN0367 | Accurate Arms Company, Inc.
EX1988040100 | UN0367 | Accurate Energetic Systems, LLC.
EX1988040101 | UN0367 | Accurate Energetic Systems, LLC.
EX1989110272 | UN0367 | Accurate Energetic Systems, LLC.
EX1989110427 | UN0481 | Accurate Energetic Systems, LLC.
EX1989110428 | UN0481 | Accurate Energetic Systems, LLC.
EX1989110429 | UN0481 | Accurate Energetic Systems, LLC.
EX1989110431 | UN0481 | Accurate Energetic Systems, LLC.
EX1989110432 | UN0481 | Accurate Energetic Systems, LLC.
EX1989110433 | UN0481 | Accurate Energetic Systems, LLC.
EX1989110434 | UN0481 | Accurate Energetic Systems, LLC.
EX1989110435 | UN0481 | Accurate Energetic Systems, LLC.
EX1989110437 | UN0481 | Accurate Energetic Systems, LLC.
EX1990020001 | UN0367 | Action Manufacturing Company.
EX1995070012 | UN0367 | Action Manufacturing Company.
EX1995070013 | UN0367 | Action Manufacturing Company.
EX1998110101 | UN0367 | Action Manufacturing Company.
EX201302610 | UN0367 | Action Manufacturing Company.
EX1990050150 | UN0367 | Aerojet Propulsion Division (APD).
EX2014060245 | UN0349 | Aerojet Rocketdyne, Inc.
EX2005030114 | UN0349 | Aircraft Interior Products Goodrich Corporation.
EX1990010215 | UN0367 | Alliant Techsystems (ATK), formerly Thiokol Corporation, Elkton Division.
EX1988090082 | UN0367 | Alliant Techsystems, Inc. (ATK).
EX1989050056 | UN0367 | Alliant Techsystems Operations LLC.
EX2007110352 | UN0367 | Alliant Techsystems Operations LLC.
EX1989100162 | UN0367 | Alliant Techsystems Operations LLC.
EX2009010092 | UN0349 | Alliant Techsystems Operations LLC.
EX2013040297 | UN0481 | Alliant Techsystems Operations LLC.
EX1991050098 | UN0367 | Alliant Techsystems, Inc.
EX1991050099 | UN0367 | Alliant Techsystems, Inc.
EX1988040026 | UN0367 | Alliant Techsystems, Inc. (formerly Honeywell, Inc.).
EX1990100007 | UN0367 | Alliant Techsystems, Inc. (formerly Honeywell, Inc.).
EX1990100008 | UN0367 | Alliant Techsystems, Inc. (formerly Honeywell, Inc.).
EX2004010221 | UN0349 | American Airlines, Inc.
EX2018042084 | UN0349 | Armtec Defense Products Co.
EX2008040391 | UN0349 | Austin Powder Company.
EX1994120113 | UN0384 | Baker Hughes INTEQ (Owen Compliance Services, Inc.).
EX1990080103 | UN0367 | BEI Defense Systems Company, Inc.
EX1990080105 | UN0367 | BEI Defense Systems Company, Inc.
EX2001050157 | UN0367 | BF Goodrich Aerospace.
EX2019022522 | UN0349 | Brazilian Government.
EX2018012130 | UN0349 | Brazilian Government.
EX1997070025 | UN0481 | Cambridge Isotope Laboratories, Inc. (CIL).
EX1997070026 | UN0481 | Cambridge Isotope Laboratories, Inc. (CIL).
EX1997070027 | UN0481 | Cambridge Isotope Laboratories, Inc. (CIL).
EX1997080006 | UN0481 | Cambridge Isotope Laboratories, Inc. (CIL).
EX1997080007 | UN0481 | Cambridge Isotope Laboratories, Inc. (CIL).
EX1997080008 | UN0481 | Cambridge Isotope Laboratories, Inc. (CIL).
EX2018062063 | UN0349 | Captive Technologies.
EX2009070004 | UN0367 | Cartridge Actuated Devices, Inc.
EX2017080149 | UN0481 | Combined Tactical Systems, Inc.
EX1997070024 | UN0481 | Crescent Chemical Company.
EX1997070068 | UN0481 | Crescent Chemical Company.
EX1997070069 | UN0481 | Crescent Chemical Company.
EX1997070070 | UN0481 | Crescent Chemical Company.
EX1997070071 | UN0481 | Crescent Chemical Company.
EX1997070072 | UN0481 | Crescent Chemical Company.
EX1997070073 | UN0481 | Crescent Chemical Company.
EX1997070074 | UN0481 | Crescent Chemical Company.
EX1997070075 | UN0481 | Crescent Chemical Company.
EX1997070076 | UN0481 | Crescent Chemical Company.
EX1997070077 | UN0481 | Crescent Chemical Company.
EX1997070078 | UN0481 | Crescent Chemical Company.
EX1997070079 | UN0481 | Crescent Chemical Company.
EX1996020030 | UN0481 | Dangerous Goods Management.
EX1998020066 | UN0481 | Dangerous Goods Management.
EX1998110137 | UN0349 | De La Mare Engineering, Inc.
EX1999060129 | UN0349 | Delta Defense, Inc.
EX2002060189 | UN0367 | Department of Energy.
EX1992030149 | UN0367 | Department of Energy.
EX1985030145 | UN0367 | Department of Energy.
EX1988020258 | UN0367 | Department of Energy.
EX1998050150 | UN0349 | Dynamit Nobel GmbH.
EX1998050151 | UN0349 | Dynamit Nobel GmbH.
EX1997120152 | UN0481 | Dynamit Nobel Wien GmbH.
EX1998050065 | UN0349 | Dyno Nobel North America, (Formerly, The Ensign-Bickford Company).
EX1998070014 | UN0349 | Dyno Nobel North America, (Formerly, The Ensign-Bickford Company).
EX1998070015 | UN0349 | Dyno Nobel North America, (Formerly, The Ensign-Bickford Company).
EX1998070016 | UN0349 | Dyno Nobel North America, (Formerly, The Ensign-Bickford Company).
EX1999010231 | UN0349 | Dyno Nobel North America, (Formerly, The Ensign-Bickford Company).
EX1999010232 | UN0349 | Dyno Nobel North America, (Formerly, The Ensign-Bickford Company).
EX2007060067 | UN0349 | Dyno Nobel, Inc.
EX1999010179 | UN0349 | Dyno Nobel, Inc. (formerly IRECO, Incorporated).
EX1994040159 | UN0349 | Edison Giocattoli, S.p.a.
EX2011080094 | UN0481 | Energy Technical Systems, Inc.
EX2014071026 | UN0349 | Esterline Defense Technologies.
EX2014030181 | UN0349 | Esterline Defense Technologies.
EX2015030271 | UN0349 | Esterline Defense Technologies.
EX2013090807 | UN0349 | Esterline Defense Technologies (Armtec Defense Products Co.).
EX1987040167A | UN0367 | ET, Inc. (formerly Explosive Technology, Inc.).
EX1987070022A | UN0367 | ET, Inc. (formerly Explosive Technology, Inc.).
EX1988090072A | UN0367 | ET, Inc. (formerly Explosive Technology, Inc.).
EX1989030240A | UN0367 | ET, Inc. (formerly Explosive Technology, Inc.).
EX1989120002A | UN0367 | ET, Inc. (formerly Explosive Technology, Inc.).
EX1991080167 | UN0367 | ET, Inc. (formerly Explosive Technology, Inc.).
EX1991120107 | UN0367 | ET, Inc. (formerly Explosive Technology, Inc.).
EX1991120108 | UN0367 | ET, Inc. (formerly Explosive Technology, Inc.).
EX1991120109 | UN0367 | ET, Inc. (formerly Explosive Technology, Inc.).
EX1991120110 | UN0367 | ET, Inc. (formerly Explosive Technology, Inc.).
EX1992010103 | UN0367 | ET, Inc. (formerly Explosive Technology, Inc.).
EX1992010118 | UN0367 | ET, Inc. (formerly Explosive Technology, Inc.).
EX1992010119 | UN0367 | ET, Inc. (formerly Explosive Technology, Inc.).
EX1992010120 | UN0367 | ET, Inc. (formerly Explosive Technology, Inc.).
EX1992020188 | UN0367 | ET, Inc. (formerly Explosive Technology, Inc.).
EX1992030091 | UN0367 | ET, Inc. (formerly Explosive Technology, Inc.).
EX1992030092 | UN0367 | ET, Inc. (formerly Explosive Technology, Inc.).
EX1992030093 | UN0367 | ET, Inc. (formerly Explosive Technology, Inc.).
EX1992030094 | UN0367 | ET, Inc. (formerly Explosive Technology, Inc.).
EX1992030095 | UN0367 | ET, Inc. (formerly Explosive Technology, Inc.).
EX1992030096 | UN0367 | ET, Inc. (formerly Explosive Technology, Inc.).
EX1992030097 | UN0367 | ET, Inc. (formerly Explosive Technology, Inc.).
EX1992030098 | UN0367 | ET, Inc. (formerly Explosive Technology, Inc.).
EX1992030099 | UN0367 | ET, Inc. (formerly Explosive Technology, Inc.).
EX1992030100 | UN0367 | ET, Inc. (formerly Explosive Technology, Inc.).
EX1992030101 | UN0367 | ET, Inc. (formerly Explosive Technology, Inc.).
EX1992030102 | UN0367 | ET, Inc. (formerly Explosive Technology, Inc.).
EX1992030103 | UN0367 | ET, Inc. (formerly Explosive Technology, Inc.).
EX1992030104 | UN0367 | ET, Inc. (formerly Explosive Technology, Inc.).
EX1992030105 | UN0367 | ET, Inc. (formerly Explosive Technology, Inc.).
EX1992030106 | UN0367 | ET, Inc. (formerly Explosive Technology, Inc.).
EX1992030107 | UN0367 | ET, Inc. (formerly Explosive Technology, Inc.).
EX1992030108 | UN0367 | ET, Inc. (formerly Explosive Technology, Inc.).
EX1992030109 | UN0367 | ET, Inc. (formerly Explosive Technology, Inc.).
EX1992030110 | UN0367 | ET, Inc. (formerly Explosive Technology, Inc.).
EX1992030111 | UN0367 | ET, Inc. (formerly Explosive Technology, Inc.).
EX1992030112 | UN0367 | ET, Inc. (formerly Explosive Technology, Inc.).
EX1992030113 | UN0367 | ET, Inc. (formerly Explosive Technology, Inc.).
EX1992030114 | UN0367 | ET, Inc. (formerly Explosive Technology, Inc.).
EX1992030115 | UN0367 | ET, Inc. (formerly Explosive Technology, Inc.).
EX1992030116 | UN0367 | ET, Inc. (formerly Explosive Technology, Inc.).
EX1992030117 | UN0367 | ET, Inc. (formerly Explosive Technology, Inc.).
EX1992030118 | UN0367 | ET, Inc. (formerly Explosive Technology, Inc.).
EX1992030119 | UN0367 | ET, Inc. (formerly Explosive Technology, Inc.).
EX1992030120 | UN0367 | ET, Inc. (formerly Explosive Technology, Inc.).
EX1992030121 | UN0367 | ET, Inc. (formerly Explosive Technology, Inc.).
EX1992030122 | UN0367 | ET, Inc. (formerly Explosive Technology, Inc.).
EX1992030123 | UN0367 | ET, Inc. (formerly Explosive Technology, Inc.).
EX1992030124 | UN0367 | ET, Inc. (formerly Explosive Technology, Inc.).
EX1992030125 | UN0367 | ET, Inc. (formerly Explosive Technology, Inc.).
EX1992030126 | UN0367 | ET, Inc. (formerly Explosive Technology, Inc.).
EX1992030127 | UN0367 | ET, Inc. (formerly Explosive Technology, Inc.).
EX1992030128 | UN0367 | ET, Inc. (formerly Explosive Technology, Inc.).
EX1992030129 | UN0367 | ET, Inc. (formerly Explosive Technology, Inc.).
EX1992030162 | UN0367 | ET, Inc. (formerly Explosive Technology, Inc.).
EX1992030163 | UN0367 | ET, Inc. (formerly Explosive Technology, Inc.).
EX1992030165 | UN0367 | ET, Inc. (formerly Explosive Technology, Inc.).
EX1992030166 | UN0367 | ET, Inc. (formerly Explosive Technology, Inc.).
EX1992030167 | UN0367 | ET, Inc. (formerly Explosive Technology, Inc.).
EX1992030168 | UN0367 | ET, Inc. (formerly Explosive Technology, Inc.).
EX1992030426 | UN0367 | ET, Inc. (formerly Explosive Technology, Inc.).
EX1992030427 | UN0367 | ET, Inc. (formerly Explosive Technology, Inc.).
EX1992030428 | UN0367 | ET, Inc. (formerly Explosive Technology, Inc.).
EX1992030429 | UN0367 | ET, Inc. (formerly Explosive Technology, Inc.).
EX1992040203 | UN0367 | ET, Inc. (formerly Explosive Technology, Inc.).
EX1992120143 | UN0367 | ET, Inc. (formerly Explosive Technology, Inc.).
EX1992120144 | UN0367 | ET, Inc. (formerly Explosive Technology, Inc.).
EX1993030182 | UN0367 | ET, Inc. (formerly Explosive Technology, Inc.).
EX1993030183 | UN0367 | ET, Inc. (formerly Explosive Technology, Inc.).
EX1993030184 | UN0367 | ET, Inc. (formerly Explosive Technology, Inc.).
EX1993050013 | UN0367 | ET, Inc. (formerly Explosive Technology, Inc.).
EX1993050014 | UN0367 | ET, Inc. (formerly Explosive Technology, Inc.).
EX1993050184 | UN0367 | ET, Inc. (formerly Explosive Technology, Inc.).
EX1993050185 | UN0367 | ET, Inc. (formerly Explosive Technology, Inc.).
EX1993050186 | UN0367 | ET, Inc. (formerly Explosive Technology, Inc.).
EX1993050187 | UN0367 | ET, Inc. (formerly Explosive Technology, Inc.).
EX1993050188 | UN0367 | ET, Inc. (formerly Explosive Technology, Inc.).
EX1993050189 | UN0367 | ET, Inc. (formerly Explosive Technology, Inc.).
EX1993050190 | UN0367 | ET, Inc. (formerly Explosive Technology, Inc.).
EX1993050191 | UN0367 | ET, Inc. (formerly Explosive Technology, Inc.).
EX1993050192 | UN0367 | ET, Inc. (formerly Explosive Technology, Inc.).
EX1993100003 | UN0367 | ET, Inc. (formerly Explosive Technology, Inc.).
EX1993100004 | UN0367 | ET, Inc. (formerly Explosive Technology, Inc.).
EX1994060241 | UN0367 | ET, Inc. (formerly Explosive Technology, Inc.).
EX1994060242 | UN0367 | ET, Inc. (formerly Explosive Technology, Inc.).
EX1994070291 | UN0367 | ET, Inc. (formerly Explosive Technology, Inc.).
EX1994070292 | UN0367 | ET, Inc. (formerly Explosive Technology, Inc.).
EX1994100006 | UN0367 | ET, Inc. (formerly Explosive Technology, Inc.).
EX2014080308 | UN0481 | ETA S.A.
EX1989040015 | UN0367 | General Dynamics Ordnance Systems, Inc.
EX2004120201 | UN0367 | Goodrich Corporation Aircraft Interior Products Propulsion System.
EX2004120266 | UN0367 | Goodrich Corporation Aircraft Interior Products Propulsion System.
EX2005030106 | UN0367 | Goodrich Corporation Aircraft Interior Products Propulsion System.
EX2018062079 | UN0349 | Government of Argentina.
EX2014010162 | UN0349 | Government of Brazil.
EX2014030546 | UN0349 | Government of Canada, Department of National Defence (DND).
EX2015020468 | UN0349 | Government of Canada, Department of National Defence (DND).
EX2016010220 | UN0367 | Government of Chile.
EX2011060808 | UN0367 | Government of Egypt.
EX2012090400 | UN0367 | Government of Finland.
EX2012111048 | UN0367 | Government of Finland.
EX2013050931 | UN0367 | Government of Finland.
EX2013050933 | UN0367 | Government of Finland.
EX2013050934 | UN0367 | Government of Finland.
EX2013050935 | UN0367 | Government of Finland.
EX2013050937 | UN0367 | Government of Finland.
EX2013050938 | UN0367 | Government of Finland.
EX2013050944 | UN0367 | Government of Finland.
EX2016110903 | UN0367 | Government of Finland.
EX2016120102 | UN0367 | Government of Finland.
EX2012080134 | UN0367 | Government of Finland, Finnish Air Force Materiel Command.
EX2012080135 | UN0367 | Government of Finland, Finnish Air Force Materiel Command.
EX2012080136 | UN0367 | Government of Finland, Finnish Air Force Materiel Command.
EX2012080137 | UN0367 | Government of Finland, Finnish Air Force Materiel Command.
EX2012080138 | UN0367 | Government of Finland, Finnish Air Force Materiel Command.
EX2013040878 | UN0367 | Government of Finland, Finnish Air Force Materiel Command.
EX2012080132 | UN0367 | Government of Finland, Finnish Materiel Command.
EX2012080130 | UN0367 | Government of Finland, Finnish Materiel Command.
EX2012080133 | UN0367 | Government of Finland, Finnish Materiel Command.
EX2012080131 | UN0367 | Government of Finland, Finnish Materiel Command.
EX2019082696 | UN0367 | Government of Indonesia.
EX2015100860 | UN0367 | Government of Israel, Ministry of Defense.
EX2016110139 | UN0367 | Government of Oman.
EX2016110837 | UN0367 | Government of Romania.
EX2009110194 | UN0349 | Government of Spain.
EX1996110231 | UN0481 | Government of Switzerland.
EX2013090134 | UN0367 | Government of Switzerland.
EX2013100569 | UN0367 | Government of Switzerland.
EX2013120494 | UN0367 | Government of Switzerland.
EX2013121238 | UN0367 | Government of Switzerland.
EX2014020631 | UN0367 | Government of Switzerland.
EX2014050390 | UN0367 | Government of Switzerland.
EX2014080653 | UN0367 | Government of Turkey.
EX2014080655 | UN0367 | Government of Turkey.
EX2019042048 | UN0349 | Harris Corporation.
EX1996090033 | UN0349 | HFI Pyrotechnics Inc.
EX1991020110 | UN0367 | Hi-Shear Technology Corporation.
EX1995100062 | UN0367 | Hughes Missile Systems Co.
EX2000100140 | UN0367 | IMI Services USA, Inc.
EX2003090038 | UN0367 | IMI Services USA, Inc.
EX2003090039 | UN0367 | IMI Services USA, Inc.
EX2003090040 | UN0367 | IMI Services USA, Inc.
EX2006020597 | UN0367 | IMI Services USA, Inc.
EX2006030376 | UN0367 | IMI Services USA, Inc.
EX2006030377 | UN0367 | IMI Services USA, Inc.
EX2006090071 | UN0481 | IMI Services USA, Inc.
EX2006090072 | UN0481 | IMI Services USA, Inc.
EX2006090073 | UN0481 | IMI Services USA, Inc.
EX2006090074 | UN0481 | IMI Services USA, Inc.
EX2007040208 | UN0367 | IMI Services USA, Inc.
EX2007040209 | UN0367 | IMI Services USA, Inc.
EX2007040210 | UN0367 | IMI Services USA, Inc.
EX2007040211 | UN0367 | IMI Services USA, Inc.
EX2007040212 | UN0367 | IMI Services USA, Inc.
EX2007040214 | UN0367 | IMI Services USA, Inc.
EX2006120390 | UN0367 | International Launch Services.
EX1998010222 | UN0349 | Ion Track Instruments.
EX1989010061 | UN0367 | IRECO, Incorporated.
EX1989010063 | UN0367 | IRECO, Incorporated.
EX1990080009 | UN0367 | IRECO, Incorporated.
EX2019112092 | UN0367 | Kaman Aerospace Corporation, Precision Products Division.
EX1996010026 | UN0367 | KDI Precision Products, Inc.
EX1993070128 | UN0384 | Kilgore Flares Company, LLC (formerly Kilgore Corporation).
EX1989040062 | UN0367 | Kilgore Flares Company, LLC (formerly Kilgore Corporation).
EX1989040064 | UN0367 | Kilgore Flares Company, LLC (formerly Kilgore Corporation).
EX1989040065 | UN0367 | Kilgore Flares Company, LLC (formerly Kilgore Corporation).
EX1989040066 | UN0367 | Kilgore Flares Company, LLC (formerly Kilgore Corporation).
EX2018042083 | UN0367 | Kingdom of Norway.
EX2012100180 | UN0349 | Kuwaiti Government.
EX2012100261 | UN0367 | Kuwaiti Government.
EX2012100771 | UN0367 | Kuwaiti Government.
EX2012101234 | UN0367 | Kuwaiti Government.
EX2012101307 | UN0367 | Kuwaiti Government
EX2012110071 | UN0367 | Kuwaiti Government.
EX2012121019 | UN0367 | Kuwaiti Government.
EX2012121020 | UN0367 | Kuwaiti Government.
EX2014060500 | UN0367 | Kuwaiti Government.
EX2017070003 | UN0367 | Kuwaiti Government.
EX2010121648 | UN0367 | L-3 Fuzing & Ordnance Systems.
EX2006060214 | UN0349 | Lockheed Martin Aeronautics Company.
EX1998060022 | UN0349 | Lockheed Martin Astronautics.
EX1988010203 | UN0367 | Lockheed Martin Corporation, Vought Systems.
EX2007010486 | UN0349 | Lockheed Martin Missiles & Fire Control.
EX2006120308 | UN0349 | Lockheed Martin Missiles and Fire Control.
EX2014100238 | UN0367 | Malaysian Government.
EX2014100239 | UN0349 | Malaysian Government.
EX1988060076 | UN0349 | Margo Supplies, Limited.
EX2007010049 | UN0349 | Martinez Specialties, Inc.
EX2005110342 | UN0384 | Mat Transport AG.
EX2004090159 | UN0349 | Mecano-Tech, Inc.
EX1993030204 | UN0384 | Ministry of Defence.
EX2011050296 | UN0481 | Missiles & Space Batteries Ltd.
EX2006100248 | UN0384 | Nammo Raufoss.
EX2011060272 | UN0367 | Nammo Talley, Inc.
EX1997030156 | UN0349 | National Aeronautics & Space Administration (NASA).
EX2019042398 | UN0367 | Netherlands Government, Ministry of Defence.
EX2019062134 | UN0367 | Netherlands Government, Ministry of Defence.
EX2019052212 | UN0367 | Netherlands Government, Ministry of Defence.
EX2019062140 | UN0367 | Netherlands Government, Ministry of Defence.
EX2019062153 | UN0367 | Netherlands Government, Ministry of Defence.
EX2017040300 | UN0384 | Netherlands Ministry of Defense.
EX2017102345 | UN0349 | Nobelteq Arms & Ammunition (PTY LTD).
EX2005060403 | UN0349 | NOF America Corporation.
EX2006090055 | UN0349 | ODA Enterprises, LLC.
EX1983050016 | UN0367 | OEA Aerospace, Inc. (formerly ET, Inc.).
EX1983100004 | UN0367 | OEA Aerospace, Inc. (formerly ET, Inc.).
EX1986100062 | UN0367 | OEA Aerospace, Inc. (formerly ET, Inc.).
EX1986110105 | UN0367 | OEA Aerospace, Inc. (formerly ET, Inc.).
EX1987020082 | UN0367 | OEA Aerospace, Inc. (formerly ET, Inc.).
EX1987030349 | UN0367 | OEA Aerospace, Inc. (formerly ET, Inc.).
EX1987030349A | UN0367 | OEA Aerospace, Inc. (formerly ET, Inc.).
EX1987040013 | UN0367 | OEA Aerospace, Inc. (formerly ET, Inc.).
EX1987040066 | UN0367 | OEA Aerospace, Inc. (formerly ET, Inc.).
EX1987040066A | UN0367 | OEA Aerospace, Inc. (formerly ET, Inc.).
EX1987040166 | UN0367 | OEA Aerospace, Inc. (formerly ET, Inc.).
EX1987040170 | UN0367 | OEA Aerospace, Inc. (formerly ET, Inc.).
EX1987060001 | UN0367 | OEA Aerospace, Inc. (formerly ET, Inc.).
EX1987060114 | UN0367 | OEA Aerospace, Inc. (formerly ET, Inc.).
EX1987060115A | UN0367 | OEA Aerospace, Inc. (formerly ET, Inc.).
EX1987060273 | UN0367 | OEA Aerospace, Inc. (formerly ET, Inc.).
EX1987070045 | UN0367 | OEA Aerospace, Inc. (formerly ET, Inc.).
EX1987070168 | UN0367 | OEA Aerospace, Inc. (formerly ET, Inc.).
EX1987080060 | UN0367 | OEA Aerospace, Inc. (formerly ET, Inc.).
EX1987080161 | UN0367 | OEA Aerospace, Inc. (formerly ET, Inc.).
EX1987110194 | UN0367 | OEA Aerospace, Inc. (formerly ET, Inc.).
EX1987110272 | UN0367 | OEA Aerospace, Inc. (formerly ET, Inc.).
EX1988010167 | UN0367 | OEA Aerospace, Inc. (formerly ET, Inc.).
EX1988030080 | UN0367 | OEA Aerospace, Inc. (formerly ET, Inc.).
EX1988030081 | UN0367 | OEA Aerospace, Inc. (formerly ET, Inc.).
EX1988030091 | UN0367 | OEA Aerospace, Inc. (formerly ET, Inc.).
EX1988050276 | UN0367 | OEA Aerospace, Inc. (formerly ET, Inc.).
EX1988060019 | UN0367 | OEA Aerospace, Inc. (formerly ET, Inc.).
EX1988070012 | UN0367 | OEA Aerospace, Inc. (formerly ET, Inc.).
EX1988070279 | UN0367 | OEA Aerospace, Inc. (formerly ET, Inc.).
EX1988080020 | UN0367 | OEA Aerospace, Inc. (formerly ET, Inc.).
EX1988080021 | UN0367 | OEA Aerospace, Inc. (formerly ET, Inc.).
EX1988090072 | UN0367 | OEA Aerospace, Inc. (formerly ET, Inc.).
EX1988100206 | UN0367 | OEA Aerospace, Inc. (formerly ET, Inc.).
EX1988110127 | UN0367 | OEA Aerospace, Inc. (formerly ET, Inc.).
EX1989010224 | UN0367 | OEA Aerospace, Inc. (formerly ET, Inc.).
EX1989010250 | UN0367 | OEA Aerospace, Inc. (formerly ET, Inc.).
EX1989010263 | UN0367 | OEA Aerospace, Inc. (formerly ET, Inc.).
EX1989020005 | UN0367 | OEA Aerospace, Inc. (formerly ET, Inc.).
EX1989030237 | UN0367 | OEA Aerospace, Inc. (formerly ET, Inc.).
EX1989060207 | UN0367 | OEA Aerospace, Inc. (formerly ET, Inc.).
EX1989080099 | UN0367 | OEA Aerospace, Inc. (formerly ET, Inc.).
EX1989090020 | UN0367 | OEA Aerospace, Inc. (formerly ET, Inc.).
EX1989090050 | UN0367 | OEA Aerospace, Inc. (formerly ET, Inc.).
EX1989110183 | UN0367 | OEA Aerospace, Inc. (formerly ET, Inc.).
EX1989120005 | UN0367 | OEA Aerospace, Inc. (formerly ET, Inc.).
EX1990010080 | UN0367 | OEA Aerospace, Inc. (formerly ET, Inc.).
EX1990040015 | UN0367 | OEA Aerospace, Inc. (formerly ET, Inc.).
EX1990090184 | UN0367 | OEA Aerospace, Inc. (formerly ET, Inc.).
EX1990120099 | UN0367 | OEA Aerospace, Inc. (formerly ET, Inc.).
EX1987110191 | UN0367 | OEA, Inc.
EX1987120186 | UN0367 | OEA, Inc.
EX1988090132 | UN0367 | OEA, Inc.
EX1988100184 | UN0367 | OEA, Inc.
EX1988110130 | UN0367 | OEA, Inc.
EX1988110168 | UN0367 | OEA, Inc.
EX2011060087 | UN0349 | Omnitek Partners, LLC.
EX2012070226 | UN0349 | Omnitek Partners, LLC.
EX1997040127 | UN0349 | Orbital Sciences Corporation.
EX1997040128 | UN0349 | Orbital Sciences Corporation.
EX1997040129 | UN0349 | Orbital Sciences Corporation.
EX1998010044 | UN0349 | Orbital Sciences Corporation.
EX1998010045 | UN0349 | Orbital Sciences Corporation.
EX1981030045 | UN0367 | Pacific Scientific.
EX2001030056 | UN0367 | Pacific Scientific.
EX2014020516 | UN0349 | Pioneer Wireline Services.
EX2014080306 | UN0349 | Polyfectos S.R.I.—Productos Experciales de Pirotechnia.
EX1995020024 | UN0481 | Radian International LLC.
EX1995020025 | UN0481 | Radian International LLC.
EX1995020026 | UN0481 | Radian International LLC.
EX1999040101 | UN0481 | Radian International LLC.
EX1999040102 | UN0481 | Radian International LLC.
EX1999040103 | UN0481 | Radian International LLC.
EX1995020023 | UN0349 | Radian International LLC.
EX1990040352 | UN0367 | Raytheon Company DBA Raytheon Systems Company.
EX2007060063 | UN0349 | RCS Rocket Motor Components, Inc.
EX2007060065 | UN0349 | RCS Rocket Motor Components, Inc.
EX2007090393 | UN0349 | RCS Rocket Motor Components, Inc.
EX2007090404 | UN0349 | RCS Rocket Motor Components, Inc.
EX1998060011 | UN0349 | Reed-Joseph International Company.
EX2013010733 | UN0349 | Reynolds Systems, Inc.
EX1994070004 | UN0349 | Rockwell International Corporation.
EX2000100101 | UN0349 | Schlumberger.
EX2001020259 | UN0367 | Schlumberger.
EX2004050280 | UN0384 | Schlumberger.
EX2006020514 | UN0384 | Schlumberger.
EX1987060027 | UN0349 | Schlumberger Perforating and Testing Center.
EX1987060283 | UN0349 | Schlumberger Perforating and Testing Center.
EX1988060182 | UN0349 | Schlumberger Perforating and Testing Center.
EX1994010082 | UN0367 | Schlumberger Perforating and Testing Center.
EX1994020120 | UN0367 | Schlumberger Perforating and Testing Center.
EX1994050292 | UN0367 | Schlumberger Perforating and Testing Center.
EX1994060018 | UN0367 | Schlumberger Perforating and Testing Center.
EX1995120021 | UN0384 | Schlumberger Perforating and Testing Center.
EX1996080002 | UN0384 | Schlumberger Perforating and Testing Center.
EX1997100012 | UN0367 | Schlumberger Perforating and Testing Center.
EX1997100012A | UN0367 | Schlumberger Perforating and Testing Center.
EX1997110099 | UN0367 | Schlumberger Perforating and Testing Center.
EX1997120090 | UN0384 | Schlumberger Perforating and Testing Center.
EX1997120139 | UN0367 | Schlumberger Perforating and Testing Center.
EX1998110106 | UN0384 | Schlumberger Perforating and Testing Center.
EX1999030011 | UN0367 | Schlumberger Perforating and Testing Center.
EX1999050168 | UN0367 | Schlumberger Perforating and Testing Center.
EX1987060282 | UN0349 | Schlumberger Reservoir Completions.
EX2004080087 | UN0349 | Schlumberger Reservoir Completions.
EX2005100173 | UN0349 | Schlumberger Reservoir Completions.
EX2006020384 | UN0367 | Schlumberger Reservoir Completions.
EX2006060181 | UN0367 | Schlumberger Reservoir Completions.
EX2009110196 | UN0384 | Schlumberger Technology Corporation.
EX2010030568 | UN0384 | Schlumberger Technology Corporation.
EX1995040042 | UN0367 | Schlumberger Well Services.
EX2000080043 | UN0349 | Segutronic High Security Engineering.
EX2008100269 | UN0384 | Special Devices, Inc.
EX2014070364 | UN0367 | Spectra Technologies, LLC.
EX2014070661 | UN0367 | Spectra Technologies, LLC.
EX1987070142 | UN0367 | Stresau Laboratory, Inc.
EX1987070145 | UN0367 | Stresau Laboratory, Inc.
EX1995040044 | UN0481 | Supelco, Inc.
EX1983040001 | UN0349 | Sutton AG Enterprises, Inc.
EX2006070137 | UN0367 | SwETech AB.
EX2012081250 | UN0367 | Taiwan Ministry of National Defense.
EX2006100253 | UN0384 | Talley Defense Systems.
EX2017040139 | UN0349 | TCO AS.
EX1990020056 | UN0367 | Tech Ord.
EX1990060041 | UN0367 | Tech Ord.
EX1990060042 | UN0367 | Tech Ord.
EX1990060044 | UN0367 | Tech Ord.
EX1992010063 | UN0367 | Tech Ord.
EX1992050131 | UN0367 | Tech Ord.
EX1992050132 | UN0367 | Tech Ord.
EX1997020095 | UN0367 | Tech Ord.
EX1997070061 | UN0384 | Tech Ord.
EX1998110136 | UN0349 | Tech Ord.
EX1999030378 | UN0349 | Tech Ord.
EX1999070225 | UN0384 | Tech Ord.
EX1997010051 | UN0367 | Tech Ord.
EX2003070046 | UN0349 | Technical Consultants, Inc.
EX2003070046A | UN0349 | Technical Consultants, Inc.
EX2003070047 | UN0349 | Technical Consultants, Inc.
EX1990060043 | UN0367 | Technical Ordnance, Inc.
EX2001020093 | UN0349 | The Boeing Company.
EX2001030032 | UN0349 | The Boeing Company.
EX2012111046 | UN0367 | The Government of Finland.
EX2013050082 | UN0367 | The Government of the United Arab Emirates.
EX2011020522 | UN0384 | The Netherlands Government, Ministry of Defense.
EX1997090011 | UN0481 | Thiokol Corporation.
EX2005070009 | UN0349 | Titan Energetics, A Division of Titan Specialties, Ltd.
EX2015010210 | UN0481 | Tk Holdings Inc.
EX2015030140 | UN0481 | Tk Holdings Inc.
EX2014020326 | UN0367 | U.S. Department of Energy.
EX1986030075 | UN0367 | U.S. Department of Energy.
EX1980120071 | UN0367 | U.S. Department of Energy.
EX1988100144 | UN0367 | UniDynamics Phoenix, Inc.
EX2008060282 | UN0349 | United Launch Alliance.
EX2010070467 | UN0349 | United Launch Alliance.
EX2011020067 | UN0349 | United Launch Alliance.
EX2007120480 | UN0349 | Universal Propulsion Company.
EX2008010038 | UN0367 | Universal Propulsion Company.
EX2003060201 | UN0367 | Universal Propulsion Company Seating & Propulsion Systems.
EX2003080142 | UN0367 | Universal Propulsion Company Seating & Propulsion Systems.
EX2003090231 | UN0367 | Universal Propulsion Company Seating & Propulsion Systems Goodrich Corporation.
EX2003090233 | UN0367 | Universal Propulsion Company Seating & Propulsion Systems Goodrich Corporation.
EX1986110195 | UN0367 | Universal Propulsion Company, Inc.
EX1986110196 | UN0367 | Universal Propulsion Company, Inc.
EX1987030012 | UN0367 | Universal Propulsion Company, Inc.
EX1987120084 | UN0367 | Universal Propulsion Company, Inc.
EX1987120090 | UN0367 | Universal Propulsion Company, Inc.
EX2005050019 | UN0367 | Universal Propulsion Company, Inc.
EX2005080064 | UN0367 | Universal Propulsion Company, Inc.
EX2005090495 | UN0367 | Universal Propulsion Company, Inc.
EX2005110388 | UN0367 | Universal Propulsion Company, Inc.
EX2008040079 | UN0367 | Universal Propulsion Company, Inc.
EX2010071106 | UN0367 | Universal Propulsion Company, Inc.
EX2010091304 | UN0367 | Universal Propulsion Company, Inc.
EX2010091328 | UN0367 | Universal Propulsion Company, Inc.
EX2010111451 | UN0367 | Universal Propulsion Company, Inc.
EX1990020341 | UN0367 | Universal Propulsion Company, Inc.
EX1987110204 | UN0367 | Universal Propulsion Company, Inc. (formerly, OEA Aerospace, Inc.).
EX1987110205 | UN0367 | Universal Propulsion Company, Inc. (formerly, OEA Aerospace, Inc.).
EX1987110206 | UN0367 | Universal Propulsion Company, Inc. (formerly, OEA Aerospace, Inc.).
EX1987110210 | UN0367 | Universal Propulsion Company, Inc. (formerly, OEA Aerospace, Inc.).
EX1987110212 | UN0367 | Universal Propulsion Company, Inc. (formerly, OEA Aerospace, Inc.).
EX2018032147 | UN0349 | Virgin Orbit, LLC.
EX2018072098 | UN0367 | Virgin Orbit, LLC.
EX2009100075 | UN0349 | W.T. Bell International, Inc.
EX2000090134 | UN0349 | W.T. Bell International, Inc., (Formerly, Specialty Completion Products LLC.).
EX2000090135 | UN0349 | W.T. Bell International, Inc., (Formerly, Specialty Completion Products LLC.).
EX2019022745 | UN0349 | Weatherford International, LLC.
EX1989030095 | UN0349 | Western Atlas International (form. Dresser Atlas).
EX1996100128 | UN0367 | Woerner Engineering, Inc.
EX2006040223 | UN0367 | Zaugg Elektronik AG.

Issued in Washington, DC, on June 7, 2023.
William S. Schoonover,
Associate Administrator for Hazardous Materials Safety, Pipeline and Hazardous Materials Safety Administration.

[FR Doc. 2023-12728 Filed 6-13-23; 8:45 am]

BILLING CODE 4910-60-P